DEPARTMENT OF COMMERCE

Foreign-Trade Zones Board

[Order No. 1715]

Approval for Expanded Manufacturing Authority; Foreign-Trade Subzone 33E; DNP IMS America Corporation (Thermal Transfer Ribbon Printer Roll Manufacturing); Mount Pleasant, PA

Pursuant to its authority under the Foreign-Trade Zones Act of June 18, 1934, as amended (19 U.S.C. 81a-81u), the Foreign-Trade Zones Board (the Board) adopts the following Order:

Whereas, the Regional Industrial Development Corporation of Southwestern Pennsylvania, grantee of FTZ 33, has requested an expansion of the scope of manufacturing authority on behalf of DNP IMS America Corporation (DNP), within Subzone 33E in Mount Pleasant, Pennsylvania, (FTZ Docket 9-2010, filed 2/4/2010);

Whereas, notice inviting public comment has been given in the Federal Register (75 FR 6635-6636, 2/10/2010) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand the scope of manufacturing authority under zone procedures to include activity related to thermal transfer ribbon printer roll manufacturing within Subzone 33E, as described in the application and Federal Register notice, is approved, subject to the FTZ Act and the Board's regulations, including Section 400.28.

Signed at Washington, DC, this 7th day of October 2010.
Ronald K. Lorentzen,
Deputy Assistant Secretary for Import Administration, Alternate Chairman, Foreign-Trade Zones Board.
Attest:
Andrew McGilvray,
Executive Secretary.

[FR Doc. 2010-26416 Filed 10-19-10; 8:45 am]

BILLING CODE 3510-DS-P